DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet on September 3, 2014, from 9:00 a.m. to 4:00 p.m., and September 4, 2014, from 9:00 a.m. to 2:00 p.m. E.D.T. The DTAB will convene in both open and closed sessions on these two days.

On September 3, 2014, from 9:00 a.m. to 4:00 p.m., the meeting will be open to the public. The meeting will include updates on the previously announced DTAB recommendations, legalization/decriminalization of marijuana, hair testing subversion products, unique components of hair, unique drug metabolites in hair, and hair pigmentation.

The public is invited to attend the open session in person or to listen via web conference. Due to the limited seating space and call-in capacity, registration is requested. Public comments are welcome. To register, make arrangements to attend, obtain the web conference call-in numbers and access codes, submit written or brief oral comments, or request special accommodations for persons with disabilities, please register at the SAMHSA Advisory Committees Web site at http://nac.samhsa.gov/Registration/meetingsRegistration.aspx or contact the CSAP DTAB Designated Federal Official, Dr. Janine Denis Cook (see contact information below).

On September 4, 2014, from 9:00 p.m. to 2:00 p.m., the Board will meet in closed session to discuss proposed revisions to the Mandatory Guidelines for Federal Workplace Drug Testing Programs. Therefore, this meeting is closed to the public as determined by the Administrator, SAMHSA, in accordance with 5 U.S.C. 552b(c)(9)(B) and 5 U.S.C. App. 2, Section 10(d).

Meeting information and a roster of DTAB members may be obtained by accessing the SAMHSA Advisory Committees Web site, http://beta.samhsa.gov/about-us/advisory-councils/drug-testing-advisory-board-dtab, or by contacting Dr. Cook.

Committee Name: Substance Abuse and Mental Health Services Administration's Center for Substance Abuse Prevention Drug Testing Advisory Board.

Dates/Time/Type: September 3, 2014, from 9:00 a.m. to 4:00 p.m. E.D.T.: OPEN; September 4, 2014, from 9:00 a.m. to 2:00 p.m. E.D.T.: CLOSED.

Place: Sugarloaf Conference Room, SAMHSA Building, 1 Choke Cherry Road, Rockville, Maryland 20850.

Contact: Janine Denis Cook, Ph.D., Designated Federal Official, CSAP Drug Testing Advisory Board, 1 Choke Cherry Road, Room 7-1043, Rockville, Maryland 20857, Telephone: 240-276-2600, Fax: 240-276-2610, Email: janine.cook@samhsa.hhs.gov.

Janine Denis Cook,
Designated Federal Official, DTAB, Division of Workplace Programs, Center for Substance Abuse Prevention, Substance Abuse and Mental Health Services Administration.

[FR Doc. 2014-19483 Filed 8-15-14; 8:45 am]

BILLING CODE 4162-20-P